DEPARTMENT OF HEALTH AND HUMAN SERVICES

Administration for Children and Families

Submission for Office of Management and Budget Review; Child Support Portal Registration (Office of Management and Budget #: 0970-0370)

AGENCY: Office of Child Support Services, Administration for Children and Families, U.S. Department of Health and Human Services.

ACTION: Request for public comments.

SUMMARY: The Office of Child Support Services (OCSS), Administration for Children and Families (ACF), is requesting the federal Office of Management and Budget (OMB) approve the “Child Support Portal Registration,” with minor revisions, for an additional three years. The OCSS Child Support Portal (“Portal”) contains applications to help state child support agencies administer their programs. Authorized Portal users must register with OCSS to access Portal applications and provide OCSS with certain Portal application preferences. The current OMB approval expires on February 28, 2025.

DATES: Comments due January 8, 2025. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: OCSS maintains the Portal, which contains various applications through which authorized users may view, update, upload, or download information for child support purposes. Authorized users must register to access the Portal. The OCSS Portal authenticates registrants and then creates secure profiles for authorized users for employers, insurers, and financial institutions based on information provided in the Employer Services Profile and Insurance Match Debt Inquiry Portal Agreement and Profile forms. Information provided in the electronic National Medical Support Notice (e-NMSN), the electronic Incoming Withholding Order (e-IWO), and the Federally Assisted State Transmitted (FAST) Levy Financial Institution Profile forms gives OCSS the necessary information to set up the respective program user's process and capture preferences. State child support agencies manage and authenticate authorization for individual users via the state proxy server; therefore, a Portal Registration form is not required. State users must, however, provide OCSS with their respective Portal preferences. The information OCSS collects for the Portal registration and profiles remains the same but they underwent minor clarification revisions and edits to update “Office of Child Support Enforcement (OCSE)” to “Office of Child Support Services (OCSS).” OCSS revised the “Registration Screen” burden after the 60-day notice published to correctly reflect the current number of respondents and removed “agreement” from the Employer Services Profile form. OCSS also removed the e-NMSN Plan Administrator form because there are no respondents.

Respondents: Employers, Financial Institutions, Insurers, and State Child Support Agencies.

Annual Burden Estimates
Information collection instrument | Total annual estimated number of respondents | Total annual number of responses per respondent | Average burden hours per response | Total annual burden hours
Portal Registration Screens | 16,268 | 1 | 0.15 | 2,440.20
Employer Services Profile | 20,040 | 1 | 0.08 | 1,603.20
e-NMSN: Employer Profile | 20 | 1 | 0.22 | 4.40
e-NMSN: State Profile | 4 | 1 | 0.22 | 0.88
e-IWO Employer/Payroll Provider Profile | 117 | 1 | 0.08 | 9.36
Insurance Match Debt Inquiry Agreement and Profile | 6 | 1 | 0.08 | 0.48
FAST Levy Financial Institution Profile | 2 | 1 | 0.08 | 0.16

Estimated Total Annual Burden Hours: 4,058.68.

Authority: 42 U.S.C. 653(m)(2) and 44 U.S.C. 3554.

Mary C. Jones,
ACF/OPRE Certifying Officer.

[FR Doc. 2024-28761 Filed 12-6-24; 8:45 am]

BILLING CODE 4184-41-P